DEPARTMENT OF DEFENSE

Office of the Secretary

[Transmittal No. 19-0Q]

Arms Sales Notification

AGENCY: Defense Security Cooperation Agency, Department of Defense.

ACTION: Arms sales notice.

SUMMARY: The Department of Defense is publishing the unclassified text of an arms sales notification.

FOR FURTHER INFORMATION CONTACT: Karma Job at karma.d.job.civ@mail.mil or (703) 697-8976.

SUPPLEMENTARY INFORMATION: This 36(b)(5)(C) arms sales notification is published to fulfill the requirements of section 155 of Public Law 104-164 dated July 21, 1996. The following is a copy of a letter to the Speaker of the House of Representatives, and Transmittal 19-0Q.

Dated: January 17, 2020.
Aaron T. Siegel,
Alternate OSD Federal Register Liaison Officer, Department of Defense.

BILLING CODE 5001-06-P

BILLING CODE 5001-06-C

Transmittal No. 19-0Q

REPORT OF ENHANCEMENT OR UPGRADE OF SENSITIVITY OF TECHNOLOGY OR CAPABILITY (SEC. 36(B)(5)(C), AECA)

(i) Prospective Purchaser: Government of the Slovak Republic

(ii) Sec. 36(b)(1), AECA Transmittal No.: 15-09

Date: February 18, 2015

Military Department: Army

(iii) Description: On February 18, 2015, Congress was notified by Congressional certification transmittal number 15-09, of the possible sale under Section 36(b)(l) of the Arms Export Control Act of nine UH-60M Black Hawk Helicopters in standard U.S. Government configuration with designated unique equipment and Government Furnished Equipment (GFE); twenty T700-GE-701D Engines (18 installed and 2 spares); twenty Embedded Global Positioning Systems/Inertial Navigation Systems; two Aviation Mission Planning Systems; one Aviation Ground Power Unit; eleven AN/APX-123 Identification Friend or Foe Transponders; twenty Very High Frequency/Digitally Selective Calling AN/ARC-231 radios; eleven ARN-147 VHF Omni Ranging/Instrument Landing System (VOR/ILS); eleven AN/ARN-153 Tactical Air Navigation Systems; and eleven AN/ARC-201D Single Channel Ground and Airborne Radio Systems radios. Also included are aircraft warranty, ammunition, air worthiness support, facility construction, spare and repair parts, support equipment, communication equipment, publications and technical documentation, personnel training and training equipment, site surveys, tool and test equipment, U.S. Government and contractor technical and logistics support services, and other related element of program and logistics support. The estimated total cost was $450 million. Major Defense Equipment (MDE) constituted $250 million of this total.

On March 14, 2019, Congress was notified by Congressional certification transmittal number 0G-19 of the Slovak Republic's request to include twenty (20) M240H machine guns (MDE items). The estimated MDE value for these guns was $200,000 but due to price decreases in MDE items previously notified, the MDE cost remained $250 million. The total case value remained $450 million.

This transmittal reports the addition of:

1. Two (2) UH-60M Black Hawk helicopters in standard USG configuration with designated unique equipment and Government Furnished Equipment (GFE) (MDE);

2. Four (4) T700-GE-701D engines (MDE);

3. Five (5) H-764GU Embedded Global Positioning/Inertial Navigation (EGI) systems (MDE);

4. Five (5) AN/AAR-57 Common Missile Warning Systems (CMWS) (MDE);

5. Four (4) M240H machine guns (MDE); and,

6. Aviation Mission Planning Systems (AMPS), Engine Inlet Barrier Filter (EIBF) system, TALON III Forward Looking Infrared Radar (FLIR) EO/IR system, Fast Rope Insertion Extraction System (FRIES), External Rescue Hoist (ERH), Internal Auxiliary Fuel Tank System (IAFTS), EBC-406HM Emergency Locator Transmitter (ELT), AN/AVS-7 Night/Day Improved Heads-Up Display (iHUD), LRIP Crew Chief Gunner Seats, Ballistic Armor Protection System (BAPS), basic aircraft warranty, CONUS and OCONUS air worthiness support, calibration services, spare and repair parts, aviation and peculiar ground support equipment, communication equipment, weapons, ammunition, publications and technical documentation, personnel and equipment training, site surveys, special tools and test equipment, U.S. Government and contractor technical and logistics support services, and other related element of program and logistics support.

The estimated MDE value of these items is $150 million, resulting in a revised MDE cost of $400 million. There is also a $100 million non-MDE value increase. The revised total case value is $700 million.

(iv) Significance: This proposed sale will significantly increase the Slovak Air Force's capability to conduct domestic search and rescue missions, border surveillance operations, special operation forces (SOF) operations support, and contribute to NATO and other coalition operations.

(v) Justification: This proposed sale will support the foreign policy and national security of the United States by helping to improve the security of a NATO ally in developing and maintaining a strong and ready self-defense capability. This proposed sale will enhance U.S. national security objectives in the region.

(vi) Sensitivity of Technology: The statement contained in the original AECA 36(b)(1) transmittal applies to some of the MDE items reported here.

The AAR-57A Common Missile Warning System (CMWS) detects energy emitted by threat missile in-flight, evaluates potential false alarm emitters in the environment, declares validity of threat and selects appropriate counter-measures. The CMWS consists of an Electronic Control Unit (ECU), Electro-Optic Missile Sensors (EOMSs), and Sequencer and Improved Countermeasures Dispenser (ICMD). Reverse engineering is not a major concern. The ECU hardware is classified CONFIDENTIAL; releasable technical manuals for operation and maintenance are classified SECRET.

Common Missile Warning System (CMWS) User Data Module (UDM) to support Generation III Electronics Control Unit (ECU). The UDM is a ruggedized, portable, hand-held data storage device for securely receiving, storing, and transferring data between CMWS ECUs (similar to a flash, or “thumb“ drive). The UDM itself is UNCLASSIFIED when initially received. However, when loaded with data, it becomes classified to the appropriate level of the data. In the case of CMWS Software, this raises the classification level to SECRET.

Common Missile Warning System (CMWS) Classified Software is provided as Country Specific Software required for the operation and support of the Common Missile Warning System (CMWS) AN/AAR-57. The software, once developed and encrypted, is loaded on a User Data Module (UDM) for transfer and use by the Customer. The software is classified SECRET.

The AN/APR-39A Radar Signal Detecting Set is a system that provides warning of radar directed air defense threat and allows appropriate countermeasures. This is the 1553 databus compatible configuration. The hardware is classified CONFIDENTIAL when programmed with U.S. threat data; releasable technical manual for operation and maintenance are classified CONFIDENTIAL; releasable technical data (technical performance) is classified SECRET.

Operational Mission Data Set (MDS) in support of the AN/APR-39C(V)l/4 including Software Development. The MDS is a Country Specific, customer defined software data set that defines the radar emitter specifications used by the APR-39C(V)l/4 Radar Warning Receiver to examine signal received signal for potential threats. The Data Set includes data Electronic Warfare Integrated Preprogramming Database (EWIRDB) emitter parametric information to generate the MDS. The MDS is classified SECRET.

The AN/AVR-2B Laser Detecting Set is a passive laser warning system that receives, processes and displays threat information resulting from aircraft illumination by lasers on multifunctional display. The hardware is classified CONFIDENTIAL; releasable technical manuals for operation and maintenance are classified SECRET.

(vii) Date Report Delivered to Congress: January 7, 2020

[FR Doc. 2020-01141 Filed 1-23-20; 8:45 am]

BILLING CODE 5001-06-P